DEPARTMENT OF ENERGY

Federal Energy Regulatory Commission

[Project Nos. 2146-090, 82-019, 618-104]

Alabama Power Company; Notice of Draft License Application and Preliminary Draft Environmental Assessment (PDEA) and Request for Preliminary Terms and Conditions

December 17, 2004.

Take notice that the following hydroelectric application has been filed with the Commission and is available for public inspection.

a. Type of Application: New major license.

b. Project No.: P-2146; P-82; P-618.

c. Applicant: Alabama Power Company.

d. Name of Project: Coosa River Hydroelectric Project (P-2146) which includes the Weiss, H. Neely Henry, Logan Martin, Lay and Bouldin developments; Mitchell Hydroelectric Project (P-82); Jordan Hydroelectric Project (P-618).

e. Location: On the Coosa River, in the states of Alabama and Georgia.

f. Applicant Contact: Mr. R.M. Akridge, Hydro General Manager, Alabama Power Company, 600 North 18th Street, P.O. Box 2641, Birmingham, AL 35291-8180.

g. FERC Contact: Ronald McKitrick, (770) 452-2272, E-mail: ronald.mckitrick@ferc.gov.

h. Alabama Power Company intends to combine all three Projects listed above into one Project number. Alabama Power Company distributed a copy of the Coosa PDEA and Draft License Application to interested parties at a public meeting on December 8, 2004 and mailed copies on December 10, 2004 to those not attending the December 8th meeting. The Commission received a copy of the PDEA and Coosa Draft License Application on December 10, 2004.

i. Status of Project: With this notice the Commission is soliciting (1) preliminary terms, conditions, and recommendations on the PDEA, and (2) comments on the PDEA and the Draft Application.

j. Deadline for Filing: March 10, 2005.

All comments on the Coosa PDEA and Draft Application should be sent to the addresses noted above in Item (f), with one copy filed with FERC at the following address: Magalie R. Salas, Secretary, Federal Energy Regulatory Commission, 888 First Street, NE., Washington, DC 20426. All comments must include the project name (Coosa River Hydroelectric Projects) and number and bear the heading “Preliminary Comments, Preliminary Recommendations, Preliminary Terms and Conditions, or Preliminary Prescriptions.”

Comments and preliminary recommendations, terms and conditions, and prescriptions may be filed electronically via the Internet in lieu of paper. See 18 CFR 385.2001(a)(1)(iii) and the instructions on the Commission's Web site (http://www.ferc.gov) under the “e-Filing” link.

k. A copy of the application is on file with the Commission and is available for public inspection. This filing may also be viewed on the Web at http://www.ferc.gov using the “RIMS” link—select “Docket #” and follow the instructions (call 202-208-2222 for assistance).

Alabama Power Company has mailed a copy of the Coosa Preliminary DEA and Draft Application to interested entities and parties. Copies of these documents are available by contacting Alabama Power Company's relicensing Web site at http://www.southernco.com/alpower/hydro or by calling (205) 257-4265 or by e-mailing JFCREW@southernco.com or (205) 257-1268 or by e-mailing BKLOVETT@southernco.com.

l. With this notice, we are initiating consultation with the Alabama and Georgia STATE HISTORIC PRESERVATION OFFICERS (SHPO), as required by section 106, National Historic Preservation Act, and the regulations of the Advisory Council on Historic Preservation, 36 CFR 800.4.

Magalie R. Salas,
Secretary.

[FR Doc. E4-3816 Filed 12-23-04; 8:45 am]

BILLING CODE 6717-01-P